DEPARTMENT OF THE INTERIOR

Bureau of Indian Affairs

[267A2100DD/AAKC001030/A0A501010.000000]

Indian Gaming; Approval by Operation of Law of the Amendment to the Sac and Fox Nation of Missouri in Kansas and Nebraska Kansas Class III Gaming Compact

AGENCY: Bureau of Indian Affairs, Interior.

ACTION: Notice.

SUMMARY: This notice announces the approval by operation of law of the amendment to the Tribal-State compact for class III gaming between the Sac and Fox Nation of Missouri in Kansas and Nebraska and the State of Kansas governing the operation and regulation of class III gaming activities. The Amendment permits sports wagering including a hub-and-spoke betting model that deems wagers placed anywhere in the State occur on the Tribe's Indian lands where the servers are located, provided the wager is not placed on another Tribe's Indian lands.

DATES: The amendment takes effect on November 24, 2025.

FOR FURTHER INFORMATION CONTACT: Mr. Troy Woodward, Acting Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish in the Federal Register notice of the approved Tribal-State compacts for the purpose of engaging in class III gaming activities on Indian lands. See 25 U.S.C. 2710(d)(8)(D). As required by 25 CFR 293.4, all compacts and amendments are subject to review and approval by the Secretary. The Amendment permits sports wagering including a hub-and-spoke betting model that permits wagers to be placed anywhere in the State provided it's not placed on another Tribe's Indian lands. The Secretary took no action on the Amendment to the Sac and Fox Nation of Missouri in Kansas and Nebraska Kansas Class III Gaming Compact (Amendment) within the 45-day statutory review period. Therefore, the Amendment is considered to have been approved, but only to the extent it is consistent with IGRA. See 25 U.S.C. 2710(d)(8)(C).

William Henry Kirkland III,
Assistant Secretary—Indian Affairs.

[FR Doc. 2025-20696 Filed 11-21-25; 8:45 am]

BILLING CODE 4337-15-P